INTERNATIONAL TRADE COMMISSION

[Investigation Nos. 731-TA-1210-1212 (Final)]

Welded Stainless Steel Pressure Pipe From Malaysia, Thailand, and Vietnam

Determinations

On the basis of the record ¹ developed in the subject investigations, the United States International Trade Commission (Commission) determines, pursuant to section 735(b) of the Tariff Act of 1930 (19 U.S.C. 1673d(b)) (the Act), that an industry in the United States is materially injured by reason of imports from Malaysia, Thailand, and Vietnam of welded stainless steel pressure pipe, provided for in subheadings 7306.40.50 and 7306.40.10 of the Harmonized Tariff Schedule of the United States, that have been found by the Department of Commerce (Commerce) to be sold in the United States at less than fair value (LTFV).2 3

¹ The record is defined in sec. 207.2(f) of the Commission's Rules of Practice and Procedure (19 CFR 207.2(f)).

² Chairman Meredith M. Broadbent, Vice Chairman Dean A. Pinkert, and Commissioner F. Scott Kieff dissenting.

³ The Commission also finds that imports subject to Commerce's affirmative critical circumstances determination are not likely to undermine seriously the remedial effect of the antidumping duty order on Malaysia.

Background

The Commission instituted these investigations effective May 16, 2013, following receipt of a petition filed with the Commission and Commerce by Bristol Metals, L.P., of Bristol, TN; Felker Brothers Corp., of Marshfield, WI; and Outokumpu Stainless Pipe, Inc., of Schaumberg, IL. The final phase of the investigations was scheduled by the Commission following notification of preliminary determinations by Commerce that imports of welded stainless steel pressure pipe from Malaysia, Thailand, and Vietnam were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC and by publishing the notice in the Federal Register of February 21, 2014 (79 FR 11126). The hearing was held in Washington, DC on May 22, 2014, and all persons who requested the opportunity were permitted to appear in person or by counsel.

The Commission completed and filed its determinations in these investigations on July 14, 2014. The views of the Commission are contained in USITC Publication 4477 (July 2014), entitled Welded Stainless Steel Pressure Pipe from Malaysia, Thailand, and Vietnam: Investigation Nos. 731-TA-1210-1212 (Final).

Issued: July 21, 2014.
By order of the Commission.
Lisa R. Barton,
Secretary to the Commission.

[FR Doc. 2014-17469 Filed 7-24-14; 8:45 am]

BILLING CODE 7020-02-P